DEPARTMENT OF THE INTERIOR

Bureau of Land Management

[LLORP00000.L10200000.PI0000; Hag10-0119]

John Day/Snake Resource Advisory Council; Meetings

AGENCY: Bureau of Land Management, Interior.

ACTION: Meeting Notice for the John Day/Snake Resource Advisory Council.

SUMMARY: Pursuant to the Federal Land Policy and Management Act and the Federal Advisory Committee Act, the U.S. Department of the Interior, Bureau of Land Management (BLM) John Day/Snake Resource Advisory Council (JDSRAC) will meet as indicated below:

DATES: The JDSRAC meeting will begin 8 a.m. PST on February 24, 2010.

ADDRESSES: The JDSRAC will meet at the Oxford Suites Pendleton, 2400 SW Court Place, Pendleton, Oregon 97801.

SUPPLEMENTARY INFORMATION: The meeting agenda includes new member orientation, setting the calendar for 2010 meetings, election of officers for 2010, Baker Resource Management Plan RAC Involvement, Sub-Committee Reports, and other matters as may reasonably come before the council. The public is welcome to attend all portions of the meeting and may make oral comments to the Council at 1 p.m. on February 24, 2010. Those who verbally address the JDSRAC are asked to provide a written statement of their comments or presentation. Unless otherwise approved by the JDSRAC Chair, the public comment period will last no longer than 15 minutes, and each speaker may address the JDSRAC for a maximum of five minutes. If reasonable accommodation is required, please contact the BLM's Prineville District at (541) 416-6889 as soon as possible.

FOR FURTHER INFORMATION CONTACT: Christina Lilienthal, Public Affairs Specialist, 3050 NE Third, Prineville, OR 97754, (541) 416-6889 or e-mail: christina_lilienthal@blm.gov.

Dated: January 29, 2010.
Deborah J. Henderson-Norton,
District Manager, Prineville District Office.

[FR Doc. 2010-2426 Filed 2-3-10; 8:45 am]

BILLING CODE 4310-33-P